ENVIRONMENTAL PROTECTION AGENCY

[EPA-HQ-OPP-2017-0009; FRL-9966-69]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period April 1, 2017 to June 30, 2017 to control unforeseen pest outbreaks.

FOR FURTHER INFORMATION CONTACT: Michael L. Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption or denial.

B. How can I get copies of this document and other related information?

The docket for this action, identified by docket identification (ID) number EPA-HQ-OPP-2017-0009, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted or denied emergency exemptions to the following State and Federal agencies. The emergency exemptions may take the following form: Crisis, public health, quarantine, or specific. EPA has also listed denied emergency exemption requests in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U.S. States and Territories

Alabama

Department of Agriculture

Specific exemption: EPA authorized the use of flupyradifurone on a maximum of 500 acres of sweet sorghum (forage and syrup) to control sugarcane aphid. A time-limited tolerance in connection with this action has been established in 40 CFR 180.679(b). Effective June 12, 2017 to November 15, 2017.

Arizona

Department of Agriculture

Specific exemption: EPA authorized the use of sulfoxaflor on a maximum of 26,000 acres of sorghum (grain and forage) to control sugarcane aphid. A time-limited tolerance in connection with this action has been established in 40 CFR 180.668(b). Effective May 1, 2017 to November 30, 2017.

EPA authorized the use of sulfoxaflor on a maximum of 150,000 acres of cotton to control tarnished plant bug (Lygus spp.). A permanent tolerance in connection with an earlier registration action has been established in 40 CFR 180.668(a). Effective June 1, 2017 to October 31, 2017.

Arkansas

State Plant Board

Specific exemptions: EPA authorized the use of sulfoxaflor on a maximum of 420,000 acres of cotton to control tarnished plant bug (Lygus lineolaris). A permanent tolerance in connection with an earlier registration action has been established in 40 CFR 180.668(a). Effective June 1, 2017 to October 31, 2017.

EPA authorized the use of flupyradifurone on a maximum of 200 acres of sweet sorghum (forage and syrup) to control sugarcane aphid. A time-limited tolerance in connection with this action has been established in 40 CFR 180.679(b). Effective June 12, 2017 to November 15, 2017.

California

Department of Pesticide Regulation

Specific exemption: EPA authorized the use of methoxyfenozide on a maximum of 100,000 acres of rice to control armyworm (Mythimna unipuncta) and Western Yellow striped Armyworm (Spodoptera praefica). A time-limited tolerance in connection with this action has been established in 40 CFR 180.544(b). Effective June 30, 2017 to October 4, 2017.

Colorado

Department of Agriculture

Specific exemption: EPA authorized the use of sulfoxaflor on a maximum of 500,000 acres of sorghum (grain and forage) to control sugarcane aphid. A time-limited tolerance in connection with this action has been established in 40 CFR 180.668(b). Effective April 9, 2017 to November 30, 2017.

Delaware

Department of Agriculture

Specific exemptions: EPA authorized the use of bifenthrin on a maximum of 415 acres of apples, pears, and nectarines, to control the brown marmorated stink bug. A time-limited tolerance in connection with this action has been established in 40 CFR 180.442(b). Effective April 20, 2017 to October 15, 2017.

EPA authorized the use of dinotefuran on a maximum of 415 acres of pome and stone fruit to control the brown marmorated stink bug. A time-limited tolerance in connection with this action has been established in 40 CFR 180.603(b). Effective May 22, 2017 to October 15, 2017.

Florida

Department of Agriculture and Consumer Services

Quarantine exemption: EPA authorized the use of propiconazole on a maximum of 7,500 acres of avocado trees to control Laurel wilt (Raffaelea lauricola). A time-limited tolerance in connection with this action has been established in 40 CFR 180.434(b). Effective April 3, 2017 to April 3, 2020.

Public health exemptions: EPA authorized use of pyriproxyfen (a larvicide) and Beauveria bassiana (a fungus pathogenic to adult insects) to help control Aedes species of mosquitoes, vectors of the zika virus, in Florida. Effective June 15, 2017 to June 15, 2018.

Georgia

Department of Agriculture

Specific exemptions: EPA authorized the use of sulfoxaflor on a maximum of 50,000 acres of sorghum (grain and forage) to control sugarcane aphid. A time-limited tolerance in connection with this action has been established in 40 CFR 180.668(b). May 1, 2017 to November 30, 2017.

EPA authorized the use of flupyradifurone on a maximum of 200 acres of sweet sorghum (forage and syrup) to control sugarcane aphid. A time-limited tolerance in connection with this action has been established in 40 CFR 180.679(b). Effective June 12, 2017 to November 15, 2017.

Hawaii

Department of Agriculture

Crisis exemption: On May 31, 2017 the Hawaii Department of Agriculture declared a crisis exemption for the use of tolfenpyrad on watermelon to control watermelon thrips. The use season is expected to last until October 31, 2017, and a specific exemption request was also submitted.

Kansas

Department of Agriculture

Specific exemption: EPA authorized the use of sulfoxaflor on a maximum of 2,850,000 acres of sorghum (grain and forage) to control sugarcane aphid. A time-limited tolerance in connection with this action has been established in 40 CFR 180.668(b). Effective April 9, 2017 to November 30, 2017.

Kentucky

Department of Agriculture

Specific exemption: EPA authorized the use of flupyradifurone on a maximum of 1,500 acres of sweet sorghum (forage and syrup) to control sugarcane aphid. A time-limited tolerance in connection with this action has been established in 40 CFR 180.679(b). Effective June 12, 2017 to November 15, 2017.

Maryland

Department of Agriculture

Specific exemptions: EPA authorized the use of bifenthrin on a maximum of 3,570 acres of apples, pears, and nectarines, to control the brown marmorated stink bug. A time-limited tolerance in connection with this action has been established in 40 CFR 180.442(b). Effective April 20, 2017 to October 15, 2017.

EPA authorized the use of dinotefuran on a maximum of 3,730 acres of pome and stone fruit to control the brown marmorated stink bug. A time-limited tolerance in connection with this action has been established in 40 CFR 180.603(b). Effective May 22, 2017 to October 15, 2017.

Michigan

Department of Agriculture

Crisis exemption: On June 29, 2017 the Michigan Department of Agriculture declared a crisis exemption for the use of zeta-cypermethrin on tart cherries to control Spotted Wing Drosophila. The use season is expected to last until August 15, 2017, and a specific exemption request was also submitted.

Mississippi

Department of Agriculture and Commerce

Specific exemptions: EPA authorized the use of sulfoxaflor on a maximum of 750,000 acres of cotton to control tarnished plant bug (Lygus lineolaris). A permanent tolerance in connection with an earlier registration action has been established in 40 CFR 180.668(a). Effective June 1, 2017 to October 31, 2017.

EPA authorized the use of flupyradifurone on a maximum of 1,000 acres of sweet sorghum (forage and syrup) to control sugarcane aphid. A time-limited tolerance in connection with this action has been established in 40 CFR 180.679(b). Effective June 12, 2017 to November 15, 2017.

Missouri

Department of Agriculture

Specific exemptions: EPA authorized the use of sulfoxaflor on a maximum of 85,000 acres of sorghum (grain and forage) to control sugarcane aphid. A time-limited tolerance in connection with this action has been established in 40 CFR 180.668(b). April 20, 2017 to November 30, 2017.

EPA authorized the use of sulfoxaflor on a maximum of 241,500 acres of cotton to control tarnished plant bug (Lygus lineolaris). A permanent tolerance in connection with an earlier registration action has been established in 40 CFR 180.668(a). Effective June 1, 2017 to October 31, 2017.

New Mexico

Department of Agriculture

Specific exemption: EPA authorized the use of sulfoxaflor on a maximum of 140,000 acres of sorghum (grain and forage) to control sugarcane aphid. A time-limited tolerance in connection with this action has been established in 40 CFR 180.668(b). May 5, 2017 to November 30, 2017.

New York

Department of Environmental Conservation

Specific exemption: EPA authorized the use of bifenthrin on a maximum of 7,321 acres of apples, pears, and nectarines, to control the brown marmorated stink bug. A time-limited tolerance in connection with this action has been established in 40 CFR 180.442(b). Effective June 26, 2017 to October 15, 2017.

North Carolina

Department of Agriculture and Consumer Services

Specific exemptions: EPA authorized the use of fluridone on a maximum of 25,000 acres of sweet potatoes to control Palmer Amaranth. A tolerance is established at 40 CFR 180.420(d) for vegetable, root and tuber, group 1 at 0.1 ppm (for indirect or inadvertent residues) which will support any residues resulting from this emergency use. Effective April 25, 2017 to July 20, 2017.

EPA authorized the use of sulfoxaflor on a maximum of 50,000 acres of sorghum (grain and forage) to control sugarcane aphid. A time-limited tolerance in connection with this action has been established in 40 CFR 180.668(b). Effective May 5, 2017 to November 30, 2017.

EPA authorized the use of bifenthrin on a maximum of 3,000 acres of apples, pears, and nectarines, to control the brown marmorated stink bug. A time-limited tolerance in connection with this action has been established in 40 CFR 180.442(b). Effective May 12, 2017 to October 15, 2017.

EPA authorized the use of dinotefuran on a maximum of 4,000 acres of pome and stone fruit to control the brown marmorated stink bug. A time-limited tolerance in connection with this action has been established in 40 CFR 180.603(b). Effective May 22, 2017 to October 15, 2017.

EPA authorized the use of flupyradifurone on a maximum of 150 acres of sweet sorghum (forage and syrup) to control sugarcane aphid. A time-limited tolerance in connection with this action has been established in 40 CFR 180.679(b). Effective June 12, 2017 to November 15, 2017.

Oklahoma

Department of Agriculture

Specific exemption: EPA authorized the use of sulfoxaflor on a maximum of 300,000 acres of sorghum (grain and forage) to control sugarcane aphid. A time-limited tolerance in connection with this action has been established in 40 CFR 180.668(b). Effective April 9, 2017 to November 30, 2017.

Pennsylvania

Department of Agriculture

Specific exemptions: EPA authorized the use of bifenthrin on a maximum of 24,973 acres of apples, pears, and nectarines, to control the brown marmorated stink bug. A time-limited tolerance in connection with this action has been established in 40 CFR 180.442(b). Effective April 20, 2017 to October 15, 2017.

EPA authorized the use of dinotefuran on a maximum of 24,974 acres of pome and stone fruit to control the brown marmorated stink bug. A time-limited tolerance in connection with this action has been established in 40 CFR 180.603(b). Effective May 22, 2017 to October 15, 2017.

South Carolina

Department of Pesticide Regulation

Specific exemption: EPA authorized the use of sulfoxaflor on a maximum of 19,600 acres of sorghum (grain and forage) to control sugarcane aphid. A time-limited tolerance in connection with this action has been established in 40 CFR 180.668(b). Effective April 9, 2017 to November 30, 2017.

Tennessee

Department of Agriculture

Specific exemption: EPA authorized the use of sulfoxaflor on a maximum of 240,000 acres of cotton to control tarnished plant bug (Lygus lineolaris). A permanent tolerance in connection with an earlier registration action has been established in 40 CFR 180.668(a). Effective June 1, 2017 to September 30, 2017.

EPA authorized the use of flupyradifurone on a maximum of 750 acres of sweet sorghum (forage and syrup) to control sugarcane aphid. A time-limited tolerance in connection with this action has been established in 40 CFR 180.679(b). Effective June 12, 2017 to November 15, 2017.

Texas

Department of Agriculture

Specific exemption: EPA authorized the use of sulfoxaflor on a maximum of 5.5 million acres of cotton to control tarnished plant bug (Lygus lineolaris). A permanent tolerance in connection with an earlier registration action has been established in 40 CFR 180.668(a). Effective April 28, 2017 to October 31, 2017.

EPA authorized the use of tolfenpyrad on a maximum of 10,000 acres of dry bulb onions to control thrips (Thrips tabaci). A time-limited tolerance in connection with this action will be established in 40 CFR 180.675(b). Effective June 2, 2017 to July 10, 2017.

Virginia

Department of Agriculture and Consumer Services

Specific exemption: EPA authorized the use of sulfoxaflor on a maximum of 16,591 acres of sorghum (grain and forage) to control sugarcane aphid. A time-limited tolerance in connection with this action has been established in 40 CFR 180.668(b). Effective April 9, 2017 to November 30, 2017.

EPA authorized the use of bifenthrin on a maximum of 29,000 acres of apples, pears, and nectarines, to control the brown marmorated stink bug. A time-limited tolerance in connection with this action has been established in 40 CFR 180.442(b). Effective April 20, 2017 to October 15, 2017.

EPA authorized the use of dinotefuran on a maximum of 29,000 acres of pome and stone fruit to control the brown marmorated stink bug. A time-limited tolerance in connection with this action has been established in 40 CFR 180.603(b). Effective May 22, 2017 to October 15, 2017.

West Virginia

Department of Agriculture

Specific exemption: EPA authorized the use of bifenthrin on a maximum of 5,986 acres of apples, pears, and nectarines, to control the brown marmorated stink bug. A time-limited tolerance in connection with this action has been established in 40 CFR 180.442(b). Effective May 5, 2017 to October 15, 2017.

EPA authorized the use of dinotefuran on a maximum of 5,986 acres of pome and stone fruit to control the brown marmorated stink bug. A time-limited tolerance in connection with this action has been established in 40 CFR 180.603(b). Effective May 22, 2017 to October 15, 2017.

B. Federal Departments and Agencies

Defense Department

Department of Defense

Armed Forces Pest Management Board

Specific exemption. EPA authorized use of permethrin for treatment of unoccupied military aircraft to comply with disinsection requirements of Italy and other countries, to prevent dissemination of potential insect disease vectors such as the Aedes mosquito, vector of the zika virus. Signed June 26, 2017, effective July 13, 2017 to July 13, 2018.

Centers for Disease Control and Prevention

Public health exemptions: EPA authorized use of pyriproxyfen (a larvicide) and Beauveria bassiana (a fungus pathogenic to adult insects) to help control Aedes species of mosquitoes, vectors of the zika virus, in Puerto Rico. Effective May 12, 2017 to May 12, 2018.

Authority: 7 U.S.C. 136 et seq.

Dated: October 18, 2017.
Michael Goodis,
Director, Registration Division, Office of Pesticide Programs.

[FR Doc. 2017-25831 Filed 11-29-17; 8:45 am]

BILLING CODE 6560-50-P